DEPARTMENT OF THE INTERIOR

National Park Service

National Register of Historic Places; Notification of Pending Nominations

Nominations for the following properties being considered for listing in the National Register were received by the National Park Service before January 22, 2000. Pursuant to section 60.13 of 36 CFR Part 60 written comments concerning the significance of these properties under the National Register criteria for evaluation may be forwarded to the National Register, National Park Service, 1849 C St. NW, NC400, Washington, DC 20240. Written comments should be submitted by February 17, 2000.

Carol D. Shull,
Keeper of the National Register.

ARIZONA

Maricopa County

East Alvarado Historic District, (Residential Subdivisions and Architecture in Phoenix MPS) E. Alvarado Rd. bet. 3rd and 7th Sts., Phoenix, 00000102

Yavapai County

Ash Fork Maintenance Camp #1, Old Rte. 66-West end, Ash Fork, 00000103

Yuma County

Southern Pacific Railroad Passenger Coach Car—S.P. X7, 201 N. 4th Ave., Yuma, 00000101

ARKANSAS

White County

Titan II ICBM Launch Complex 373-5 Site, (Titan II ICBM Launch Complex Sites Associated with the 308th Strategic Missile Wing In Arkansas MPS) Approx. 0.5 mi. NE of AR 36, Center Hill, 00000100

COLORADO

Denver County

Wheeler House, 1917 W. 32nd Ave., Denver, 00000105

Jefferson County

Building 710, Defense Civil Preparedness Agency, Region 6 Operations Center, Denver Federal Center, Lakewood, 00000104

GEORGIA

Forsyth County

Cumming Public School—Cumming High School, 101 School St., Cumming, 00000107

McDuffie County

Hayes Line Historic District, Jct. of Twin Oaks Rd. and GA 233, Thomson, 00000106

KANSAS

Finney County

Bungalow Historic District, 1001, 1005, 1007, 1009, 1011 N. Fourth St., Garden City, 00000110

Wyandotte County

Castle Rock, 852 Washington Blvd., Kansas City, 00000109

Shafer, Theodore, House, 2418 N.10th St., Kansas City, 00000108

MASSACHUSETTS

Berkshire County

Coleman Bridge, Windsor Bush Rd. over Phelps Brook, Windsor, 00000112

Middlesex County

Hydrant No. 3 House, Washington St., Holliston, 00000113

Norfolk County

Railway Village Historic District, Roughly along Adams St., from Mechanic and Church Sts., and Washington St., Milton, 00000111

MICHIGAN

Wayne County

Antietam Street—Grand Trunk Railroad, (Highway Bridges of Michigan MPS), Antietam St. over Grand Trunk Railroad, Detroit, 00000114

Chestnut Street—Grand Trunk Railroad, (Highway Bridges of Michigan MPS), Chestnut St. over Grand Trunk Railroad,

Detroit, 00000115

Ferry Street—Thorofare Canal Bridge, (Highway Bridges of Michigan MPS), Ferry St. over Thorofare Canal, Grosse Ile, 00000118

Fort Street—Pleasant Street and Norfolk & Western Railroad Viaduct, (Highway Bridges of Michigan MPS), Fort St. over Pleasant St. and N&W RR., Detroit, 00000116

South Pointe Drive—Frenchman's Creek Bridge, (Highway Bridges of Michigan MPS), South Pointe Dr. over Frenchman's Creek, Grosse Ile, 00000117

NORTH CAROLINA

Catawba County

Hickory Municipal Building, 30 Third St., SW, Hickory, 00000119

SOUTH DAKOTA

Butte County

South Dakota Dept. of Transportation Bridge No. 10-270-338, (Historic Bridges in South Dakota MPS), Local Rd. over Horse Creek, Newell vicinity, 00000124

Deuel County

East Highland Lutheran Church, Approx 6 mi. NE of Brandt, Brandt vicinity, 00000120

Lincoln County

Skartvedt House, 224 E. 2nd St., Canton, 00000121

Minnehaha County

Lund, Daniel, House, 628 West 20th, Sioux Falls, 00000123

Welch, Laura M, House, (Lustron Houses in South Dakota MPS), 1218 S. Willow Ave., Sioux Falls, 00000122

TENNESSEE

Monroe County

McCroskey, John, House, 3224 Sweetwater-Vonore Rd., Sweetwater vicinity, 00000125

[FR Doc. 00-2227 Filed 2-1-00; 8:45 am]

BILLING CODE 4310-70-P